DEPARTMENT OF HOMELAND SECURITY

U.S. Customs and Border Protection

Modification of Two National Customs Automation Program (NCAP) Tests Concerning Automated Commercial Environment (ACE) Document Image System (DIS) and Simplified Entry (SE); Correction

AGENCY: U.S. Customs and Border Protection, Department of Homeland Security.

ACTION: General notice; correction.

SUMMARY: On July 23, 2013, U.S. Customs and Border Protection (CBP) published in the Federal Register a document announcing modifications to the National Customs Automation Program (NCAP) tests concerning document imaging, known as the Document Image System (DIS) test, and entry capability, known as the Simplified Entry (SE) test. That document contained an error in the “Documents Supported in the Second Phase of the Test” section regarding the description of a form. This document corrects the July 23, 2013 document to reflect the correct description of the form.

DATES: This correction is effective on August 29, 2013.

FOR FURTHER INFORMATION CONTACT: For policy-related questions, contact Monica Crockett at monica.v.crockett@cbp.dhs.gov. For technical questions related to ABI transmissions, contact your assigned client representative. Any partner government agency (PGA) interested in participating in DIS should contact Susan Dyszel at susan.dyszel@cbp.dhs.gov. Interested parties without an assigned client representative should direct their questions to Susan Maskell at susan.c.maskell@cbp.dhs.gov.

SUPPLEMENTARY INFORMATION:

Background

On July 23, 2013, U.S. Customs and Border Protection (CBP) published in the Federal Register a document announcing modifications to the National Customs Automation Program (NCAP) tests concerning document imaging, known as the Document Image System (DIS) test, and entry capability, known as the Simplified Entry (SE) test. 78 FR 44142. That document contained an error in Section III. entitled, “Documents Supported in the Second Phase of the Test” regarding the description of the Animal and Plant Health Inspection Service (APHIS) document Plant Protection and Quarantine (PPQ) Form 586. PPQ Form 586 serves as both the application for a permit, and once approved, the permit itself. This correction is being issued to clarify that only the approved permit may be transmitted via the DIS.

Correction

In the Federal Register of July 23, 2013, in the document at 78 FR 44142, on page 44144, in the first column, correct the description of PPQ Form 586 to read: PPQ Form 586, Permit To Transit Plants and/or Plant Products, Plant Pests, and/or Associated Soil through the United States.

Dated: August 23, 2013.
Joanne R. Stump,
Acting Director, Regulations and Disclosure Law Division, U.S. Customs and Border Protection.

[FR Doc. 2013-21102 Filed 8-28-13; 8:45 am]

BILLING CODE 9111-14-P